DEPARTMENT OF JUSTICE

Notice of Lodging of Consent Decree Under the Clean Water Act

Notice is hereby give that on October 31, 2005, a proposed consent decree in United States and the State of Indiana v. Town of Newburgh, Civil Action No. 3:05-CV-199-RLY-WGH, was lodged with the United States District Court for the Southern District of Indiana.

In this action, the United States and the State of Indiana sought injunctive relief and civil penalties under section 309(b) and (d) of the Clean Water Act (“the Act”), 33 U.S.C. 1319(b) and (d), against the Town of Newburgh, Indiana, for violations of section 301 of the Act, 33 U.S.C. 1311, and the terms and conditions of the Town of Newburgh's National Pollutant Discharge Elimination System (“NPDES”) permits at the Town of Newburgh's wastewater treatment plant and throughout its sewer collection system. The Complaint alleges that the Town of Newburgh violated the Clean Water Act and its applicable NPDES permits by failing to comply with effluent limitations in its permits, discharging wastewater and raw sewage through unpermitted point sources, and failing to monitor specified parameters at the frequency required by its applicable NPDES permit.

The proposed Clean Water Act consent decree provides for injunctive relief consisting primarily of the Town of Newburgh's implementation of a written capacity, management, operation, and maintenance (“CMOM”) plan for the sewer collection system that the Town of Newburgh owns or over which the Town of Newburgh has operational control; the approved CMOM plan is attached to the proposed consent decree as Appendix A. In addition, the proposed consent decree acknowledges that the Town of Newburgh has addressed alleged effluent limitation and sanitary sewer overflow violations of its NPDES permits through the completion of several construction projects: (a) the elimination of Outfall 011 to Cypress Creek; (b) the major upgrade of the wastwater treatment plant's capacity from 2.3 million gallons per (“MGD”) to 4.6 MGD; (c) the provision of alternate power supply to the No. 5 (Triple Crown) and No. 8 (Old Plant) Lift Stations; (d) replacement of pumps and controls at the Old Plant Lift Station; (e) the construction of an new 18 inch gravity sewer connected to the Old Plant Lift Station; and (f) the closing and sealing of Outfall 009. In addition, the Town of Newburgh will pay a civil penalty of $56,000 to resolve the claims in the Complaint.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States and Indiana v. Town of Newburgh, DOJ Ref. #90-5-1-1-06644.

The proposed consent decree may be examined at the office of the United States Attorney for the Southern District of Indiana, 10 West Market, Suite 2100, Indianapolis, Indiana 46204, and at U.S. EPA Region 5, 77 West Jackson Boulevard, Chicago, IL 60604. During the public comment period, the consent decrees may also be examined on the following Department of Justice Web site, http://www.usdoj.gov/enrd/open.html. A copy of the Consent Decree may also be obtained by mail from the Consent Decree Library, P.O. Box 7611, U.S. Department of Justice, Washington, DC 20044-7611, or by faxing a request to Tonia Fleetwood, fax no. (202) 514-0097, phone confirmation number (202) 514-1547. In requesting a copy, please refer to the referenced case and enclose a check in the amount of $18.25 (25 cents per page reproduction costs), payable to the U.S. Treasury.

William D. Brighton,
Assistant Chief, Environmental Enforcement Section, Environment and Natural Resources Division.

[FR Doc. 05-22362 Filed 11-8-05; 8:45 am]

BILLING CODE 4410-15-M